ENVIRONMENTAL PROTECTION AGENCY

[EPA-HQ-OPP-2008-0489; FRL-8372-1]

FIFRA Scientific Advisory Panel; Notice of Cancellation of Public Meeting

AGENCY: Environmental Protection Agency (EPA).

ACTION: Notice.

SUMMARY: The Agency is issuing this notice to cancel a September 9 - 11, 2008 meeting of the Federal Insecticide, Fungicide, and Rodenticide Act (FIFRA) Scientific Advisory Panel. The meeting was announced in the Federal Register of June 18, 2008.

FOR FURTHER INFORMATION CONTACT: Joseph E. Bailey, Designated Federal Official, Office of Science Coordination and Policy (7201M), Environmental Protection Agency, 1200 Pennsylvania Ave., NW., Washington, DC 20460; telephone number: (202) 564-2045; fax number: (202) 564-8382; e-mail address: bailey.joseph@epa.gov.

SUPPLEMENTARY INFORMATION: The September 9 - 11, 2008 meeting of the Federal Insecticide, Fungicide, and Rodenticide Act (FIFRA) Scientific Advisory Panel (FIFRA) to consider and review an evaluation of the common mechanism of action of pyrethroid pesticides has been cancelled. The meeting was originally announced in the Federal Register of June 18, 2008 (73 FR 34736) (FRL-8369-1). For further information, please contact the Designated Federal Official listed under FOR FURTHER INFORMATION CONTACT.

List of Subjects

Environmental protection, Pesticides and pests.

Dated: June 30, 2008.
Gary E. Timm,
Acting Director, Office of Science Coordination and Policy.

[FR Doc. E8-15360 Filed 7-8-08; 8:45 am]

BILLING CODE 6560-50-S